DEPARTMENT OF LABOR

Office of the Assistant Secretary for Veterans' Employment and Training

Urban Non-Urban Homeless Female Veterans and Homeless Veterans With Families' Reintegration Into Employment

AGENCY: Veterans' Employment and Training Service, Department of Labor.

Announcement Type: New Notice of Availability of Funds and Solicitation for Grant Applications. The full announcement is posted on www.grants.gov.

Funding Opportunity Number: SGA 10-03

Key Dates: The closing date for receipt of applications is May 27, 2010 via http://www.grants.gov.

Funding Opportunity Description:

The U.S. Department of Labor (USDOL), Veterans' Employment and Training Service (VETS) announces a grant competition for organizations that will provide comprehensive services “through a client-centered case management approach” that addresses complex problems facing Homeless Female Veterans and/or Veterans with Families eligible to transition into gainful employment. Section 2021 of Title 38 of the United States Code (U.S.C.) requires the Secretary of Labor (the Secretary) to conduct, directly or through grant or contract, such programs as the Secretary determines appropriate to provide job training, counseling, and placement services (including job readiness, literacy training, and skills training) to expedite the reintegration of homeless Veterans into the labor force. Veterans who received a “dishonorable” discharge are ineligible for HVRP services. Priority of service for Veterans in all Department of Labor funded training programs is established in 38 U.S.C. 4215.

HVRP grants are intended to address two objectives: (1) to provide services to assist in reintegrating homeless veterans into meaningful employment within the labor force, and (2) to stimulate the development of effective service delivery systems that will address the complex problems facing homeless Veterans.

The full Solicitation for Grant Application is posted on http://www.grants.gov under U.S. Department of Labor/VETS. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed at Washington, DC, this 22nd day of April 2010.
Cassandra R. Mitchell,
Grant Officer.

[FR Doc. 2010-9733 Filed 4-26-10; 8:45 am]

BILLING CODE 4510-79-P